DEPARTMENT OF THE INTERIOR

Fish and Wildlife Service

[FWS-R4-R-2010-N258; 40136-1265-0000-S3]

Notice of Intent To Prepare Land Protection Plan and Associated NEPA Documents for the Proposed Everglades Headwaters National Wildlife Refuge and the Proposed Everglades Headwaters Conservation Area

AGENCY: Fish and Wildlife Service, Interior.

ACTION: Notice of Intent.

SUMMARY: This notice advises the public that the U.S. Fish and Wildlife Service (Service) intends to gather information necessary to prepare a land protection plan (LPP) and associated National Environmental Policy Act (NEPA) documents pursuant to NEPA and its implementing regulations to establish the Everglades Headwaters National Wildlife Refuge (NWR) and the Everglades Headwaters Conservation Area. The Service is furnishing this notice in compliance with the National Wildlife Refuge System Administration Act of 1966, as amended, to achieve the following: advise other agencies, Tribal governments, and the public of our intentions and obtain suggestions and information on the scope of issues to include in the environmental documents. Special mailings, newspaper articles, and other media announcements will inform people of the opportunities for input throughout the planning process.

DATES: We are soliciting written comments and will hold public scoping meetings in January and February 2011.

ADDRESSES: Address comments, questions, and requests for further information to the following: Cheri M. Ehrhardt, AICP, Fish and Wildlife Service, Natural Resource Planner, P.O. Box 2683, Titusville, FL 32781-2683. You may find additional information concerning the proposed refuge and conservation area at the Service's Internet site: http://www.fws.gov/southeast/planning/.

FOR FURTHER INFORMATION CONTACT: Cheri M. Ehrhardt; telephone: 321/861-2368; fax: 321/861-8913; e-mail: EvergladesHeadquartersProposal@fws.gov.

SUPPLEMENTARY INFORMATION:

Introduction

With this notice, the Service proposes to establish a new Everglades Headwaters NWR and the Everglades Headwaters Conservation Area. The proposed refuge would consist of a core area within the upper Kissimmee River Basin, where the Service would work with willing landowners to acquire, protect, and manage up to 50,000 acres through fee title purchases, leases, conservation easements, conservation and mitigation banks, lands set aside through habitat conservation plans, and/or cooperative agreements from willing sellers. The proposed conservation area would be an area adjacent and complementary to the proposed refuge and other conservation lands within this landscape, where the Service and its partners, in cooperation with willing landowners, would protect some 100,000 acres through conservation easements, conservation and mitigation banks, lands set aside through habitat conservation plans, and/or cooperative agreements.

The proposal represents the convergence of conservation efforts of a variety of agencies and organizations and is a partnership effort amongst local, State, Federal, and Tribal governmental entities; area landowners and ranchers; and non-governmental organizations. The proposal is biologically based, targeting the cooperative conservation of an important Florida landscape, supporting various conservation plans and initiatives, and protecting, restoring, and conserving habitat for at least 88 Federal- and State-listed species and species designated by the State of Florida as Species of Greatest Conservation Need. This proposal helps address broad public concerns over the loss of wildlife, habitat, access to natural lands and waters, and working landscapes in Florida's heartland. The proposal would help preserve a part of Florida's heritage and a national treasure.

The National Wildlife Refuge System Improvement Act of 1997 outlines six priority public uses (e.g., hunting, fishing, wildlife observation, wildlife photography, and environmental education and interpretation) that are to be facilitated on national wildlife refuges, where compatible.

Public input into the land protection planning process is essential for the Service to understand the public's concerns within this landscape and about the proposed refuge and conservation area. Following and based on this period of public scoping, the Service will develop a LPP and associated NEPA document to propose the refuge and conservation area, including a no action alternative (i.e., do not propose a refuge and conservation area) and one or more action alternatives. The Service will then request public review and comment on the LPP and NEPA document.

Background

This area is one of the great grassland and savanna landscapes of eastern North America. Still largely rural, this area is a mosaic of seasonally wet grasslands, longleaf pine savannas, and cattle ranches that sustains one of the most important assemblages of imperiled vertebrate wildlife in the southeastern United States and a large portion of the unprotected natural habitat remaining in peninsular Florida. The proposed refuge and conservation area would help conserve and restore imperiled species habitat, protect the headwaters of the Everglades and clean water resources, create and connect a matrix of conservation lands and important wildlife corridors to help mitigate the anticipated effects of global climate change, and provide opportunities for wildlife-dependent education and recreation experiences, while also conserving the rural agricultural and ranching landscape that is so important to the existing wildlife resources of the area.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Environmental Policy Act of 1969 (42 U.S.C. 4321-4370d).

Dated: November 22, 2010.
Mark J. Musaus,
Acting Regional Director.

[FR Doc. 2011-453 Filed 1-11-11; 8:45 am]

BILLING CODE 4310-55-P